INTERNATIONAL TRADE COMMISSION

[Investigation Nos. 701-TA-531-532 and 731-TA-1270-1273 (Review)]

Polyethylene Terephthalate (PET) Resin From Canada, China, India, and Oman

Determinations

On the basis of the record ¹ developed in the subject five-year reviews, the United States International Trade Commission (“Commission”) determines, pursuant to the Tariff Act of 1930 (“the Act”), that revocation of the countervailing duty orders on polyethylene terephthalate (“PET”) resin from China and India and the antidumping duty orders on PET resin from Canada, China, India, and Oman would be likely to lead to continuation or recurrence of material injury to an industry in the United States within a reasonably foreseeable time.

¹ The record is defined in § 207.2(f) of the Commission's Rules of Practice and Procedure (19 CFR 207.2(f)).

Background

The Commission instituted these reviews on April 1, 2021 (86 FR 17197) and determined on July 7, 2021 that it would conduct full reviews (86 FR 37343, July 15, 2021). Notice of the scheduling of the Commission's reviews and of a public hearing to be held in connection therewith was given by posting copies of the notice in the Office of the Secretary, U.S. International Trade Commission, Washington, DC, and by publishing the notice in the Federal Register on October 20, 2021 (86 FR 58101). The Commission conducted its hearing on January 27, 2022. All persons who requested the opportunity were permitted to participate.

The Commission made these determinations pursuant to section 751(c) of the Act (19 U.S.C. 1675(c)). It completed and filed its determinations in these reviews on March 30, 2022. The views of the Commission are contained in USITC Publication 5298 (March 2022), entitled Polyethylene Terephthalate (PET) Resin from Canada, China, India, and Oman: Investigation Nos. 701-TA-531-532 and 731-TA-1270-1273 (Review).

By order of the Commission.
Issued: March 30, 2022.
Lisa Barton,
Secretary to the Commission.

[FR Doc. 2022-07061 Filed 4-1-22; 8:45 am]

BILLING CODE 7020-02-P